DEPARTMENT OF COMMERCE

Census Bureau

Proposed Information Collection; Comment Request; Precanvass Operation for the 2017 Commodity Flow Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before July 6, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to James Hinckley, Census Bureau, Room 6K057-South Building, Washington, DC 20233 (or via the Internet at james.hinckley@census.gov).

SUPPLEMENTARY INFORMATION:

I. Abstract

The Census Bureau plans to conduct a Precanvass Operation in preparation for the 2017 Commodity Flow Survey to improve the efficiency and accuracy of the sample frame. The Commodity Flow Survey itself will be the subject of a later notice planned for publication in early 2016.

The Commodity Flow Survey, a component of the Economic Census, is the only comprehensive source of multimodal, system-wide data on the volume and pattern of goods movement in the United States. The Commodity Flow Survey is conducted in partnership with the Bureau of Transportation Statistics, Office of the Assistant Secretary for Research and Technology, U.S. Department of Transportation.

The Commodity Flow Survey data are used by policy makers and transportation planners in various federal, state, and local agencies for accessing the demand for transportation facilities and services, energy use, and safety risk and environmental concerns. Additionally, business owners, private researchers, and analysts use the Commodity Flow Survey data for analyzing trends in the movement of goods, mapping, spatial patterns of commodity and vehicle flows, forecasting demands for the movement of goods, and determining needs for associated infrastructure and equipment.

In conducting the Precanvass, the Census Bureau will select a sample from U.S. manufacturing, mining, and wholesale establishments, enterprise support establishments, electronic shopping, mail-order houses, and publishing establishments. The Precanvass will determine if these establishments are engaged in shipping activities, and if so obtain an estimate of the annual value of those shipments, along with updating address and contact information for the 2017 Commodity Flow Survey. Those establishments that do not engage in shipping activity will be eliminated from the sample frame. Identification and elimination of the non-shippers will significantly improve the efficiency of the sample for the 2017 Commodity Flow Survey. In addition, those establishments excluded from the sample frame will be saved the added burden of receiving a 2017 Commodity Flow Survey questionnaire.

II. Method of Collection

The Census Bureau will mail letters to (a) enterprise support establishments in the Census Bureau's Business Register, and (b) the largest establishments in the industries listed in section I that are likely to be included in the 2017 Commodity Flow Survey. The estimated size of the Precanvass is 150,000 establishments. The size is subject to change to meet the goals of the survey, but will be no larger than approximately 150,000 establishments.

The Census Bureau will primarily use electronic data capture methodology, with occasional data capture from facsimile receipts, secured messaging attachments, and telephone call-in responses. Letter mailings and telephone follow-up will be conducted for the nonresponse cases. General information on shipping activity and value of shipments will be collected via check box style questions. Contact information will also be collected and used to improve the mailing and follow-up activities for the 2017 Commodity Flow Survey.

III. Data

OMB Control Number: 0607-0921.

Form Number(s): CFS-0001.

Type of Review: Regular submission.

Affected Public: Businesses and other for-profit organizations.

Estimated Number of Respondents: 150,000.

Estimated Time per Response: 5 minutes.

Estimated Total Annual Burden Hours: 12,500.

Estimated Total Annual Cost to Public: $0.

Respondent's Obligation: Mandatory.

Legal Authority: Title 13 U.S.C., sections 131, 182, 224 and 225; 49 U.S.C., section 111.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 30, 2015.
Glenna Mickelson,
Management Analyst, Office of the Chief Information Officer.

[FR Doc. 2015-10468 Filed 5-4-15; 8:45 am]

BILLING CODE 3510-07-P